DEPARTMENT OF AGRICULTURE

Food and Nutrition Service

Agency Information Collection Activities: Senior Farmers' Market Nutrition Program (SFMNP)

AGENCY: Food and Nutrition Service (FNS), U.S. Department of Agriculture (USDA).

ACTION: Notice.

SUMMARY: In accordance with the Paperwork Reduction Act of 1995, this notice invites the general public and other public agencies to comment on this proposed information collection. This collection is a revision of a currently approved collection of information relating to the reporting and recordkeeping burden associated with the Senior Farmers' Market Nutrition Program (SFMNP).

DATES: Written comments must be received on or before July 26, 2022.

ADDRESSES: Comments may be sent to: Allison Post, Acting Chief, Policy Branch, Supplemental Food Programs Division, Food and Nutrition Service, U.S. Department of Agriculture, Braddock Metro Center II, 1320 Braddock Place, 3rd Floor, Alexandria, VA 22314. Comments may also be submitted via fax to the attention of Allison Post at 703-305-2086 or via email to Allison.Post@usda.gov. Comments will also be accepted through the Federal eRulemaking Portal. Go to http://www.regulations.gov and follow the online instructions for submitting comments electronically.

All responses to this notice will be summarized and included in the request for Office of Management and Budget approval. All comments will be a matter of public record.

FOR FURTHER INFORMATION CONTACT: Requests for additional information or copies of this information collection should be directed to Allison Post at 703-457-7708 or via email to Allison.Post@usda.gov.

SUPPLEMENTARY INFORMATION:

Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Senior Farmers' Market Nutrition Program (SFMNP).

Form Number: FNS-683A (under OMB Control Number 0584-0594) is associated with this collection.

OMB Number: 0584-0541.

Expiration Date: December 31, 2022.

Type of Request: Revision of a currently approved collection.

Abstract: The U.S. Department of Agriculture (USDA), Food and Nutrition Service (FNS), created the Senior Farmers' Market Nutrition Program (SFMNP) in 2000 as a pilot program awarding grants to State agencies (including geographic States, U.S. Territories, and federally recognized Indian Tribal Organizations (ITOs)) on a competitive basis. The Farm Security and Rural Investment Act of 2002 (2002 Farm Bill), Public Law 107-171, authorized the SFMNP, beginning Fiscal Year (FY) 2003, and gave USDA the authority to develop regulations for the SFMNP. These regulations are published at 7 Code of Federal Regulations (CFR) part 249. The Agriculture Improvement Act of 2018 (2018 Farm Bill), Public Law 115-334, reauthorized the SFMNP through fiscal year 2023.

The purpose of the SFMNP is to provide resources in the form of fresh, nutritious, unprepared, locally grown fruits, vegetables, herbs, and honey from farmers' markets, roadside stands, and community supported agriculture (CSA) programs to low income seniors; to increase the domestic consumption of agricultural commodities by expanding or aiding in the expansion of domestic farmers' markets, roadside stands, and CSA programs; and to develop or aid in the development of new and additional farmers' markets, roadside stands, and CSA programs.

The 2018 Farm Bill and SFMNP regulations at 7 CFR part 249 require that certain program-related information be collected and that full and complete records concerning SFMNP operations are maintained. The information reporting and recordkeeping requirements are necessary to ensure appropriate and efficient management of the SFMNP program. These burden activities are covered by this Information Collection Request (ICR) which include requirements that involve the authorization and monitoring of State agencies; the certification of SFMNP participants; the nutrition education that is provided to participants; farmer, farmers' market, roadside stand, and CSA program authorization, training, monitoring, and management; and financial and participation data (using Senior Farmers Market Nutrition Program (SFMNP) Annual Financial and Program Data Report (FNS 683A), which is approved (both the form and its associated reporting burden) under OMB Control Number: 0584-0594 Food Programs Reporting System (FPRS), Expiration Date: 07/31/2023). The recordkeeping burden associated with this form is not approved under OMB Control Number 0584-0594. State agencies must maintain records in order to support data reported in FPRS, and the recordkeeping burden for such record maintenance is captured in this ICR, OMB Control Number: 0584-0541. State plans are the principal source of information about how each State agency operates its SFMNP. Information from participants and local agencies is collected through State-developed forms or Management Information Systems. The information collected is used by the Department of Agriculture/Food and Nutrition Service to manage, plan, evaluate, make decisions and report on SFMNP program operations. Along with the State Plans, State agencies also submit the Federal-State Supplemental Nutrition Programs Agreements (FNS-339) whose reporting and recordkeeping burden is associated and approved under OMB Control Number: 0584-0332, Expiration Date: 04/30/2022.

This information collection is requesting a revision in the burden hours due to program changes and adjustments that primarily reflect the inclusion of existing requirements that have been in use without PRA approval and are being added into this collection to correct this oversight, such as requirements related to the activities that authorized outlets need to perform in order to participate in the Program and the maintenance of records and systems by State and local agencies. This information collection is requesting a revision in the burden hours due to program changes and adjustments that also reflects expected decreases in the number of SFMNP participants; SFMNP authorized farmers, farmers' markets, roadside stands, and CSA programs (authorized outlets); and SFMNP local agencies.

The currently approved burden for this collection is 449,090. FNS estimates the new burden at 1,143,986 burden hours, which is an increase of 694,896. The currently approved total annual responses are 2,549,454; we are requesting 2,400,726, which is a decrease of 148,728 total annual responses.

Affected Public: Individual/Households; Business or Other For Profit; Not For Profit Organizations; State, Local and Tribal Government: Respondent groups identified include: (1) SFMNP participants who are low-income seniors; (2) authorized farmers, farmers' markets, roadside stands and CSA programs; (3) nonprofit businesses operating as local agencies; and (4) local and State agencies (including geographic States, U.S. Territories, and Indian Tribal Organizations (ITOs)) administering the Program).

Estimated Number of Respondents: The total estimated number of respondents is 746,264. This includes: 55 State agencies, 678 local agencies, 725,686 individuals/households (program recipients), 290 nonprofit business, and 19,555 authorized outlets.

Estimated Number of Responses per Respondent: The total estimated number of responses per respondent for this collection is 3.22.

Estimated Total Annual Responses: 2,400,726. The estimated total for reporting is 1,671,921 while the estimated total for recordkeeping is 728,805.

Estimated Time per Response: The estimated time per response averages .48 hours for all participants. For the reporting and recordkeeping burden, the estimated time of response varies from approximately 1 minute to 40 hours depending on the respondent group.

Estimated Total Annual Burden on Respondents: 1,143,986 hours. The estimated total for reporting burden is 958,511 while the estimated total for recordkeeping is 185,474 burden hours.

See the table below for estimated total annual burden for each type of respondent.

Estimate of the Collection of Information Burden Table
Regulatory section | Information collected | Form(s) | Est. number of respondents | Annual responses per respondent | Total annual responses | Hours per response | Total annual burden hours
REPORTING BURDEN ESTIMATES
Affected Public: State & Local Agencies (Including U.S. Territories and Indian Tribal Organizations)
249.3(d) | Local agency applications |  | 677.60 | 0.50 | 338.80 | 2.00 | 677.60
249.4 | State Plan of Operations |  | 55.00 | 1.00 | 55.00 | 40.00 | 2,200.00
249.6(a)(3) | Certification data for seniors |  | 55.00 | 13,194.29 | 725,686.00 | 0.25 | 181,421.5
249.10(a)(2), (b), (c) | Authorization—Review of Outlet Applications (Farmers, Farmers' Market, Roadside Stand, CSA Program) |  | 55.00 | 177.77 | 9,777.50 | 1.00 | 9,777.50
249.10(a)(7), (d) | Annual Training for Authorized Outlets Development |  | 55.00 | 1.00 | 55.00 | 8.00 | 440.00
249.10(a)(7), (d) | Annual Training for Authorized Outlets |  | 55.00 | 15.00 | 825.00 | 2.00 | 1,650.00
249.10(b)(8) | Disqualification of Authorized Outlets |  | 5.00 | 1.00 | 5.00 | 0.08 | 0.42
249.10(e)(2)(3), 249.17(c)(1)(i) | Monitoring and review of at least 10 percent of authorized farmers, farmers' markets, roadside stands, and CSA programs |  | 55.00 | 35.55 | 1,955.50 | 1.50 | 2,933.25
249.10(e)(4), 249.17(c)(1)(ii)(iii) | Monitoring/Review of Local Agencies |  | 55.00 | 8.80 | 484.00 | 2.00 | 968.00
249.10(f) | Coupon/CSA management system |  | 55.00 | 1.00 | 55.00 | 5.00 | 275.00
249.10(h) | Coupon reconciliation |  | 55.00 | 1.00 | 55.00 | 3.00 | 165.00
249.10(j) | Recipients and Authorized Outlet Complaints |  | 55.00 | 9.09 | 500.00 | 1.00 | 500.00
249.10(k) | Recipients and Authorized Outlet Sanctions |  | 55.00 | 7.11 | 391.10 | 0.08 | 32.66
249.11 | Financial management system |  | 55.00 | 1.00 | 55.00 | 10.00 | 550.00
249.12(a)(2) | Prior approval for cost items per 2 CFR part 200, subpart E, and 2 CFR parts 400 and 415 |  | 5.00 | 1.00 | 5.00 | 40.00 | 200.00
249.17(a) | Establishment of ME System |  | 1.00 | 1.00 | 1.00 | 24.00 | 24.00
249.17(b)(2) | State agency corrective action plans |  | 8.00 | 1.00 | 8.00 | 10.00 | 80.00
249.17(c)(2) | Special Reports |  | 2.00 | 1.00 | 2.00 | 10.00 | 20.00
249.18(b) | Audit responses |  | 1.00 | 1.00 | 1.00 | 15.00 | 15.00
249.23(b) | Financial/recipient reports | FNS-683A |  |  | 0.00 |  | 0.00
Subtotal Reporting: State and Local Agencies |  | 732.60 | 1010.45 | 740,254.90 | 0.27 | 201,929.92
Affected Public: Individuals/Households (Applicants for Program Benefits)
249.6 | Certification data for seniors |  | 725,686 | 1 | 725,686 | 0.0167 | 12,118.9562
Subtotal Reporting: Individuals/Households |  | 725,686 | 1 | 725,686 | 0.0167 | 12,118.9562
Affected Public: Authorized Farmers, Farmers' Markets, Roadside Stands, CSA Programs
249.3(d) | Non-profit businesses Applications |  | 290.4 | 0.5 | 145.2 | 2 | 290.4
249.10(b), (c) | Authorized Outlet Agreements |  | 9,777.5 | 1 | 9,777.5 | 0.0835 | 816.42125
249.10(b)(1)(xi) | Farmer/farmers' market complaints |  | 500 | 1 | 500 | 0.5 | 250
249.10(b)(8) | Appeal of Denial |  | 7.822 | 1 | 7.822 | 2 | 15.644
249.10(d) | Annual Training for Authorized Outlets |  | 19,555 | 1 | 19,555 | 2 | 39110
249.10(e)(1) | Coupon Reimbursement |  | 19,555 | 9 | 175,995 | 4 | 703,980
Subtotal Reporting: Authorized farmers, farmers' markets, roadside stands and CSA programs |  | 19,845.40 | 10.38 | 205,980.52 | 3.61 | 744,462.47
GRAND SUBTOTAL: REPORTING |  | 746,264.00 | 2.240388686 | 167,1921.42 | 0.573299279 | 958,511.35
RECORDKEEPING BURDEN ESTIMATES
Affected Public: State & Local Agencies (Including U.S. Territories and Indian Tribal Organizations)
249.4(c) | State Plan Record Maintenance |  | 55 | 1 | 55 | 0.167 | 9.185
249.9 | Nutrition education |  | 55 | 13194.29091 | 725,686 | 0.25 | 181,421.5
249.10(a)(4), (d) | Authorized Outlet Training Content |  | 55 | 1 | 55 | 2 | 110
249.10(b) | Authorized farmers, farmers' markets, roadside stands and CSA program agreements |  | 55 | 1 | 55 | 2 | 110
248.10(b)(8) | Maintenance of Disqualification and Sanction Records |  | 55 | 1 | 55 | 0.167 | 9.185
249.10(e )(2)(3), 249.17(c)(1)(i) | Monitoring and review of at least 10 percent of authorized farmers, farmers' markets, roadside stands, and CSA programs |  | 55 | 39.90816327 | 2,194.94898 | 0.5 | 1,097.47449
249.10(e)(4); 249.17(c)(1)(ii) | Monitoring/Review of Local Agencies |  | 55 | 8.8 | 484 | 0.5 | 242
249.11(c) | Record of financial expenditures | FNS-683A | 55 | 1 | 55 | 2 | 110
249.16(a) | Fair hearings |  | 55 | 1 | 55 | 1 | 55
249.17(a) | Maintenance of Management Evaluations |  | 55 | 1 | 55 | 2 | 110
249.23(a) | Record of Program operations |  | 55 | 1 | 55 | 40 | 2,200
GRAND SUBTOTAL: RECORDKEEPING |  | 55.00 | 13251.00 | 728,804.95 | 0.25 | 185,474.34
GRAND SUBTOTAL REPORTING AND RECORDKEEPING |  | 746,264.00 | 3.22 | 2,400,726.37 | 0.48 | 1,143,985.69

| Estimated number of respondents | Responses per respondent | Total annual responses (Col. B × C) | Estimated avg. number of hours per response | Estimated total hours (Col. D × E)
Total Reporting Burden | 746,264.0 | 2.24 | 1,671,921.42 | 0.57 | 958,511.35
Total Recordkeeping Burden | 55.00 | 13251.00 | 728,804.95 | 0.25 | 185,474.34
TOTAL BURDEN FOR #0584-0541 | 746,264.0 | 3.22 | 2,400,726.37 | 0.48 | 1,143,985.69

Cynthia Long,
Administrator, Food and Nutrition Service.

[FR Doc. 2022-11479 Filed 5-26-22; 8:45 am]

BILLING CODE 3410-30-P